DEPARTMENT OF ENERGY

International Energy Agency Meetings

AGENCY: Department of Energy.

ACTION: Notice of meetings.

SUMMARY: The Industry Advisory Board (IAB) to the International Energy Agency (IEA) will meet on March 20, 2001, at the headquarters of the IEA in Paris, France, and during March 21-23, 2001, in connection with the “IEA Millennium Conference on Oil Security Strategy” and a meeting of the IEA's Standing Group on Emergency Questions (SEQ).

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)), the following notice of meetings is provided:

Meetings of the Industry Advisory Board (IAB) to the International Energy Agency (IEA) will be held on March 20-23, 2001, at the headquarters of the IEA, 9, rue de la Fédération, Paris, France, commencing on March 20, 2001, at approximately 2 p.m.. The meeting on March 20, 2001, will be of the IAB alone. The meetings on March 21-22, 2001, are being noticed in order to permit attendance by representatives of U.S. company members of the IAB at the “IEA Millennium Conference on Oil Security Strategy” which is to be held on those dates at IEA headquarters under the sponsorship of the IEA's Standing Group on the Oil Market (SOM) and Standing Group on Emergency Questions (SEQ). The meeting on March 23, 2001, is being noticed in order to permit attendance by U.S. company members of the IAB at a meeting of the SEQ to be held on that date at IEA headquarters.

The Agenda for the IAB meeting on March 20, 2001, is as follows:

• Views regarding the IEA Millennium Conference agenda

• Views regarding the SEQ Meeting agenda

• Industry input requested by IEA for the 2001 Program of Work

—Disruption Simulation Exercise

—Emergency Reserve issues

—CERM (Coordinated Emergency Response Measures) activities

• Industry views in response to SEQ's request for intensified advice from the IAB

• Industry Supply Advisory Group

The Agenda for the “IEA Millennium Conference on Oil Security Strategy” on March 21-22, 2001, is under the control of the SOM and SEQ. It is expected that the IEA Millennium Conference will have the following Agenda:

I. The Changing Dynamics of Oil Markets

• The Oil Market in the Coming Decades

• The Impact of Industry Stocks and the Futures Market on Oil Market Dynamics

• Investments in Upstream Activities

• The Effect of Environmental Concerns

• The Shift from Oil to Natural Gas

• Oil Consumption in the Transport Sector

II. The Geopolitics of Oil Supply

• Future Supply Disruption and Dependence on the Middle East

• The Impact of Chokepoint Disruptions

• Security of Pipeline Networks

III. Future Emergency Response Strategy: Are IEA Measures Adequate to Meet the Challenges of the Next Several Decades?

• Current IEA Response Capability

• Cooperation with Non-Member Countries

• The Past and Future of Dialogue with Producers

• How Will Natural Gas Fit In?

IV. Strategies for Global Energy Security

• New Challenges and Strategies

The Agenda for the SEQ meeting on March 23, 2001, is under the control of the SEQ. It is expected that the SEQ will adopt the following agenda:

1. Adoption of the Agenda

2. Approval of the Summary Records of the 100th Meeting and the Joint SEQ/SOM Meeting of November 14, 2000

3. SEQ Work Program

—Year 2002 Work Program of the SEQ—First Elements

4. Measures to Ensure Compliance with IEA Stockholding Commitments

5. Supplementary Criteria for the Use of Emergency Stocks

6. The Treatment of Unavailable Stocks

7. Evaluation of the IEA Millennium Conference on Oil Security Strategy

8. Current Oil Market Situation and Security Considerations

—Report on Oil Market Situation

—Oil Data Transparency Initiatives

9. Analysis of Oil Stock Ticket Systems in IEA Member Countries

10. Emergency Reserve Issues

—Emergency Reserve and Net Import Situation of IEA Countries IEA/SEQ(2001)9 on January 1, 2001

—Emergency Reserve Situation of IEA Candidate Countries

11. Draft Questionnaire for Emergency Response Reviews

12. Policy and Legislative Developments in Member Countries

13. Current IAB Activities

14. Policy and Legislative Developments in Candidate Countries

—Emergency Response Review of Korea

—Status Report of Korea's Accession to the IEA

—Other

15. Oil Security Developments in Non-Member Countries

—Developments in China's Oil Security Policy IEA/NMC/SEQ(2001)1; IEA-China Workshop on Emergency Oil Stock Issues IEA/NMC/SEQ(2001)2 (April, Paris)

—Workshop on Energy Security Concerns and Response Strategies for South Asia (February 10, New Delhi)

—Other Initiatives and Events

16. Emergency Data System and Related Questions

—Monthly Oil Statistics December 2000

—Base Period FC First Quarter 2000/Fourth Quarter 2000

—Quarterly Oil Forecast—Current Quarter First Quarter 2001

17. Emergency Reference Guide

—Update of Emergency Contact Points List

18. Other Business

—Dates of June and November Meetings

As provided in section 252(c)(1)(A)(ii) of the Energy Policy and Conservation Act (42 U.S.C. 6272(c)(1)(A)(ii)), these meetings are open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, D.C., March 8, 2001.
Eric J. Fygi,
Acting General Counsel.

[FR Doc. 01-6312 Filed 3-12-01; 8:45 am]

BILLING CODE 6450-01-P